DEPARTMENT OF COMMERCE

Bureau of Industry and Security

15 CFR Part 744

[Docket No. 200715-0192]

RIN 0694-AI15

Addition of Certain Entities to the Entity List; Revision of Existing Entries on the Entity List

AGENCY: Bureau of Industry and Security, Commerce.

ACTION: Final rule.

SUMMARY: This final rule amends the Export Administration Regulations (EAR) by adding eleven entities to the Entity List. These eleven entities have been determined by the United States Government to be acting contrary to the foreign policy interests of the United States and will be listed on the Entity List under the destination of the People's Republic of China (China). This rule also modifies or revises thirty-seven existing entries on the Entity List under the destination of China.

DATES: This rule is effective July 22, 2020.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (15 CFR, subchapter C, part 744, Supplement No. 4) identifies entities reasonably believed to be involved in, or to pose a significant risk of being or becoming involved in, activities contrary to the national security or foreign policy interests of the United States. The Export Administration Regulations (EAR) (15 CFR parts 730-774) impose additional license requirements on, and limit the availability of most license exceptions for, exports, reexports, and transfers (in country) to listed entities. The license review policy for each listed entity is identified in the “License review policy” column on the Entity List, and the impact on the availability of license exceptions is described in the relevant Federal Register document adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

ERC Entity List Decisions

Additions to the Entity List

This rule implements the decision of the ERC to add eleven entities to the Entity List. The eleven entities are being added based on § 744.11 (License requirements that apply to entities acting contrary to the national security or foreign policy interests of the United States) of the EAR. The eleven entities are located in China.

The ERC reviewed and applied § 744.11(b) (Criteria for revising the Entity List) in making the determination to add these eleven entities to the Entity List. Under that paragraph, persons for whom there is reasonable cause to believe, based on specific and articulable facts, that they have been involved, are involved, or pose a significant risk of being or becoming involved in, activities that are contrary to the national security or foreign policy interests of the United States, along with those acting on behalf of such persons, may be added to the Entity List. Paragraphs (b)(1) through (5) of § 744.11 provide an illustrative list of activities that could be contrary to the national security or foreign policy interests of the United States.

For each of the eleven entities described below, the ERC made the requisite determination under the standard set forth in § 744.11(b). Specifically, the ERC determined that the entities are engaging in or enabling activities contrary to the foreign policy interests of the United States. All eleven entities have been implicated in human rights violations and abuses in the implementation of China's campaign of repression, mass arbitrary detention, forced labor and high-technology surveillance against Uyghurs, Kazakhs, and other members of Muslim minority groups in the Xinjiang Uyghur Autonomous Region (XUAR). Specifically, the ERC determined that Changji Esquel Textile Co. Ltd.; Hefei Bitland Information Technology Co. Ltd.; Hefei Meiling Co. Ltd.; Hetian Haolin Hair Accessories Co. Ltd.; Hetian Taida Apparel Co., Ltd.; KTK Group; Nanjing Synergy Textiles Co. Ltd.; Nanchang O-Film Tech; and Tanyuan Technology Co. Ltd. are engaging in activities contrary to the foreign policy interests of the United States through the practice of forced labor involving members of Muslim minority groups in the XUAR. The ERC also determined that Xinjiang Silk Road BGI and Beijing Liuhe BGI are enabling activities contrary to the foreign policy interests of the United States through conducting genetic analyses used to further the repression of Muslim minority groups in the XUAR.

Pursuant to § 744.11(b) of the EAR, the ERC has determined that the conduct of these eleven entities raises sufficient concern that prior review of exports, reexports or transfers (in-country) of all items subject to the EAR involving these entities, and the possible imposition of license conditions or license denials on shipments to these entities, will enhance BIS's ability to prevent items subject to the EAR from being used in activities contrary to the foreign policy interests of the United States.

For the eleven entities identified above that are being added to the Entity List, BIS imposes a license requirement for all items subject to the EAR and a license review policy of case-by-case review for Export Control Classification Numbers (ECCNs) 1A004.c, 1A004.d, 1A995, 1A999.a, 1D003, 2A983, 2D983, and 2E983. A policy of case-by-case review also applies to items designated as EAR99 that are described in the Note to ECCN 1A995, specifically, items for protection against chemical or biological agents that are consumer goods, packaged for retail sale or personal use, or medical products. Additionally, in light of the current global pandemic, BIS has adopted a policy of case-by-case review for items subject to the EAR that are necessary to detect, identify and treat infectious disease. BIS has adopted a license review policy of presumption of denial for all other items subject to the EAR. For all eleven entities, the license requirements apply to any transaction in which items are to be exported, reexported, or transferred (in country) to any of the entities. In addition, no license exceptions are available for exports, reexports, or transfers (in-country) to the entities being added to the Entity List in this rule. The acronym “a.k.a.” or `also known as' is used in entries on the Entity List to identify aliases, thereby assisting exporters, reexporters and transferors in identifying entities on the Entity List.

This final rule adds the following eleven entities to the Entity List and includes, where appropriate, aliases:

People's Republic of China

• Beijing Liuhe BGI;

• Changji Esquel Textile Co. Ltd.;

• Hefei Bitland Information Technology Co. Ltd.;

• Hefei Meiling Co. Ltd.;

• Hetian Haolin Hair Accessories Co. Ltd.;

• Hetian Taida Apparel Co., Ltd.;

• KTK Group;

• Nanchang O-Film Tech;

• Nanjing Synergy Textiles Co. Ltd.;

• Tanyuan Technology Co. Ltd.; and

• Xinjiang Silk Road BGI.

Modifications and Revisions to the Entity List

In this final rule, BIS is modifying each of the existing entries for the thirty-seven entities that were added to the Entity List under the destination of China on October 9, 2019 (84 FR 54004) and June 5, 2020 (85 FR 34505). Specifically, in light of the current global pandemic, the license review policy for these thirty-seven entries is being modified to reflect a policy of case-by-case review for items subject to the EAR that are necessary to detect, identify and treat infectious disease. The license review policy for these entities otherwise remains the same.

In addition, this final rule revises two entries for entities on the Entity List under the destination of China. BIS is revising the entity name in the entry for “Xinjiang Uighur Autonomous Region (XUAR) People's Government Public Security Bureau,” which was added to the Entity List on October 9, 2019 (84 FR 54004), and revising an address in the entry for the entity “Ministry of Public Security's Institute of Forensic Science of China,” which was added to the Entity List on June 5, 2020 (85 FR 34505). Both revisions replace the term “Uighur” with “Uyghur” consistent with the standardized spelling utilized by the United States Government in official communications and documents.

Savings Clause

Shipments of items removed from eligibility for a License Exception or for export or reexport without a license (NLR) as a result of this regulatory action that were en route aboard a carrier to a port of export or reexport, on July 22, 2020, pursuant to actual orders for export or reexport to a foreign destination, may proceed to that destination under the previous eligibility for a License Exception or export or reexport without a license (NLR).

Export Control Reform Act of 2018

On August 13, 2018, the President signed into law the John S. McCain National Defense Authorization Act for Fiscal Year 2019, which included the Export Control Reform Act of 2018 (ECRA), 50 U.S.C. 4801-4852. ECRA provides the legal basis for BIS's principal authorities and serves as the authority under which BIS issues this rule.

Rulemaking Requirements

Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 42.5 minutes for a manual or electronic submission. Total burden hours associated with the PRA and OMB control number 0694-0088 are not expected to increase as a result of this rule.

This rule does not contain policies with Federalism implications as that term is defined in Executive Order 13132.

Pursuant to § 1762 of the Export Control Reform Act of 2018, this action is exempt from the Administrative Procedure Act (5 U.S.C. 553) requirements for notice of proposed rulemaking, opportunity for public participation, and delay in effective date.

Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for part 744 continues to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13637, 78 FR 16129, 3 CFR, 2014 Comp., p. 223; Notice of November 12, 2019, 84 FR 61817 (November 13, 2019).

2. Supplement No. 4 to part 744 is amended under CHINA, PEOPLE'S REPUBLIC OF,

a. By adding in alphabetical order, the Chinese entities “Beijing Liuhe BGI”, “Changji Esquel Textile Co. Ltd.”, “Hefei Bitland Information Technology Co. Ltd.”, “Hefei Meiling Co. Ltd.”, “Hetian Haolin Hair Accessories Co. Ltd.”, “Hetian Taida Apparel Co., Ltd.”, “KTK Group”, “Nanchang O-Film Tech”, “Nanjing Synergy Textiles Co. Ltd.”, “Tanyuan Technology Co. Ltd.”, and “Xinjiang Silk Road BGI”; and

b. By revising the Chinese entities “Aksu District Public Security Bureau”, “Aksu Huafu Textiles Co.”, “Altay Municipality Public Security Bureau”, “Bayingolin Mongolian Autonomous Prefecture Public Security Bureau”, “Beijing Sensetime Technology Development Co., Ltd.”, “Boertala Mongolian Autonomous Prefecture Public Security Bureau”, “Changji Hui Autonomous Prefecture Public Security Bureau”, “Cloudwalk Technology”, “Dahua Technology”, “FiberHome Technologies Group”, “Hami Municipality Public Security Bureau”, “Hangzhou Hikvision Digital Technology Co., Ltd.”, “Hetian Prefecture Public Security Bureau”, “IFLYTEK”, “Intellifusion”, “IS'Vision”, “Kashgar Prefecture Public Security Bureau”, “Kelamayi Municipality Public Security Bureau”, “Kezilesu Kyrgyz Autonomous Prefecture Public Security Bureau”, “Megvii Technology”, “Ministry of Public Security's Institute of Forensic Science of China”, “Nanjing FiberHome Starrysky Communication Development Co”, “NetPosa”, “SenseNets”, “Shihezi Municipality Public Security Bureau”, “Tacheng Prefecture Public Security Bureau”, “Tumushuke Municipal Public Security Bureau”, “Turfan Municipality Public Security Bureau”, “Urumqi Municipal Public Security Bureau”, “Wujiaqu Municipality Public Security Bureau”, “Xiamen Meiya Pico Information Co. Ltd.”, “Xinjiang Police College”, “Xinjiang Production and Construction Corps (XPCC) Public Security Bureau”, “Xinjiang Uighur Autonomous Region (XUAR) People's Government Public Security Bureau”, “Yili Kazakh Autonomous Prefecture Public Security Bureau”, “Yitu Technologies” and “Yixin Science and Technology Co. Ltd.”.

The additions and revisions read as follows:

Supplement No. 4 to Part 744—Entity List
Country | Entity | License requirement | License review policy | Federal Register citation
* * * * * * *
CHINA, PEOPLE'S REPUBLIC OF | * * * * * *
| Aksu District Public Security Bureau, a.k.a., the following one alias: —Aqsu District Public Security Bureau. Yingbin Rd., Akesu City XUAR 843000, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Aksu Huafu Textiles Co., a.k.a., the following two aliases: —Akesu Huafu; and —Aksu Huafu Dyed Melange Yarn. 992 Kilometers Place Wuka Road, Akesu, China; and Building B 538 Fengting Avenue, Suzhou Jiangsu Province, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20. 85 FR [INSERT FR PAGE NUMBER] 7/22/20.
| Altay Municipality Public Security Bureau, North West Rd., Altay City, XUAR, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Bayingolin Mongolian Autonomous Prefecture Public Security Bureau, Yingxia Rd., Korla City, XUAR 841000, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Beijing Liuhe BGI, a.k.a., the following one alias: —Beijing Liuhe Huada Gene Technology. Room 106, Building 1, No. 25, North Taipingzhuang Road, Haidian District, Beijing. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| * * * * * *
| Beijing Sensetime Technology Development Co., Ltd., a.k.a., the following two aliases: —Beijing Shangtang Technology Development Co., Ltd.; and —Sense Time. 5F Block B, Science and Technology Building, Tsing-hua Science Park, Haidian District, Beijing, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR 34505, 6/5/20. 85 FR [INSERT FR PAGE NUMBER] 7/22/20.
| * * * * * *
| Boertala Mongolian Autonomous Prefecture Public Security Bureau, a.k.a., the following one alias: —Bortala Mongolian Autonomous Prefecture Public Security Bureau. Qingdeli St., Bole City, XUAR, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Changji Esquel Textile Co. Ltd., a.k.a., the following one alias: —Changji Yida Textile. No. 12 Oasis South Road, Changji City, Changji State, Xinjiang (District 55, 2 Hills); and 2 Hill, Area 55, No. 12, Oasis South Road, Changji City, Changji State, Xinjiang. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| Changji Hui Autonomous Prefecture Public Security Bureau, 56 Yan'an N Rd., Changji City, XUAR 831100, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| CloudWalk Technology, a.k.a., the following four aliases: —Chongqing Cloudwalk Technology Co., Ltd.; —Guangzhou Yunshang Information Technology Co., Ltd.; —Yun Cong Information Technology Co. Ltd.; and —Yun Cong Technology. 1306 Room, No. 26, Jinlong Road, Nansha District, Guangzhou, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20. 85 FR [INSERT FR PAGE NUMBER] 7/22/20.
| * * * * * *
| Dahua Technology, 807, Block A, Meike Building No. 506, Beijing South Road, New City, Urumqi, Xinjiang, China; 1199 Bin'an Road, Binjiang High-tech Zone, Hangzhou, China; and 6/F, Block A, Dacheng Erya, Huizhan Avenue, Urumqi, China; and No. 1187, Bin'an Road, Binjiang District, Hangzhou City, Zhejiang Province, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| FiberHome Technologies Group, a.k.a., the following eight aliases: —FiberHome; —FiberHome International Technology Co., Ltd.; —FiberHome Networks; —FiberHome Networks Co. Ltd.; —FiberHome Telecommunication Technologies Co., Ltd.; —Haohuo Xiangyun Network Technology Co., Ltd; —Wuhan Fiberhome International; and —Wuhan Institute of Posts and Telecommunications. No. 6, Gaoxinsilu, East Lake High-Tech Development Zone, Wuhan, Hubei Province, 430205, China; and 88 Youkeyuan Road, Hongshan District, Wuhan China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20. 85 FR [INSERT FR PAGE NUMBER] 7/22/20.
| * * * * * *
| Hami Municipality Public Security Bureau, a.k.a., the following two aliases: —Kumul Municipality Public Security Bureau, and —Qumul Municipality Public Security Bureau. Huancheng Rd., Hami District, Hami City, XUAR, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Hangzhou Hikvision Digital Technology Co., Ltd., a.k.a., the following one alias: —Hikvision. No. 555 Qianmo Road, Binjiang District, Hangzhou 310052, China; and 23rd Floor, Block A, Yingke Plaza, No. 217 Gaoxin Street, Gaoxin District, Urumqi, China; and 700 Dongliu Road, Binjiang District, Hanzhou, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR 34505, 6/5/20. 85 FR [INSERT FR PAGE NUMBER] 7/22/20.
| * * * * * *
| Hefei Bitland Information Technology Co. Ltd., a.k.a., the following three aliases: —Anhui Hefei Baolongda Information Technology; —Hefei Baolongda Information Technology Co., Ltd.; and —Hefei Bitland Optoelectronic Technology Co., Ltd. No. 4088 Jinxiu Avenue, Economic and Technological Development Zone, Hefei City, Anhui Province. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| Hefei Meiling Co. Ltd., a.k.a., the following one alias: —Hefei Meiling Group Holdings Limited. Main Factory Building No. 2 East of Lianhua Road, South of Tangkou Road, Economic and Technological Development Zone, Hefei City, Anhui Province. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| Hetian Haolin Hair Accessories Co. Ltd., a.k.a., the following two aliases: —Hotan Haolin Hair Accessories; and —Hollin Hair Accessories. No. 4 Yulongwan Road, Beijing Industrial Park, Luopu County, Hotan District, Xinjiang; and No. 4 Yulong Bay Road, Beijing Industrial Park, Lopu County, Hetian, Xinjiang, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| Hetian Prefecture Public Security Bureau, a.k.a., the following one alias: —Hotan Prefecture Public Security Bureau. 92 Beijing W Rd., Heitan City, Hetian Prefecture, XUAR 848000, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Hetian Taida Apparel Co., Ltd., a.k.a., the following one alias: —Hetian TEDA Garment. No. 2 Jingdong Road, Hetian City, Hetian District, Xinjiang and Standardized Factory of Adelaide Industrial Park, Hetian Industrial Park, Hetian City, Hetian City, Xinjiang; and Standardized Plant of Edates, Beijing, Hetian Industrial Park, Hetian City, Hetian Area, Xinjiang, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| * * * * * *
| IFLYTEK, National Intelligent Speech High-tech Industrialization Base, No. 666, Wangjiang Road West, Hefei City, Anhui Province, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Intellifusion, a.k.a., the following two aliases: —Shenzhen Yuntian Lifei Technology Co., Ltd. —Yuntian Lifei. 1st Floor, Building 17, Shenzhen Dayun Software Town, 8288 Longgang Avenue, Yuanshan District, Longgang District, Shenzhen, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20. 85 FR [INSERT FR PAGE NUMBER] 7/22/20.
| IS'Vision, a.k.a., the following six aliases: —Chengdu Yinchen Netcom Technology Co., Ltd; —Isvision Tech; —Isvision Technologies Co., Ltd.; —Shanghai Is'vision Co.; —Shanghai Isvision Technologies Co., Ltd.; and —Yinchen Technology. Building 3, No. 498, Guoshoujing Road, Pudong, Shanghai, China; and 4F, No. 9 Building of Pudong Software Park, 498 GuoShoujing Road, Shanghai, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20. 85 FR [INSERT FR PAGE NUMBER] 7/22/20.
| * * * * * *
| Kashgar Prefecture Public Security Bureau, a.k.a., the following one alias: —Kashi Prefecture Public Security Bureau. Youmulake Xiehai'er Rd., Kashgar (“Kashi”) City, XUAR 844000, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Kelamayi Municipality Public Security Bureau, a.k.a, the following two aliases: —Karamay Municipality Public Security Bureau; and —Qaramay Municipality Public Security Bureau. 52 Yingbin Rd., Kelamayi City, Kelamayi District, XUAR 834000, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Kezilesu Kyrgyz Autonomous Prefecture Public Security Bureau, a.k.a., the following one alias: —Kizilsu Autonomous Prefecture Public Security Bureau. Guangming Rd., Atushi City, XUAR 845350, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR 34505, 6/5/20. 85 FR [INSERT FR PAGE NUMBER] 7/22/20.
| * * * * * *
| KTK Group, a.k.a., the following three aliases: —Jiangsu Jinchuang Group; —Jiangsu Jinchuang Holding Group; and —KTK Holding. No. 88, Jinchuang Road, Yaoguan Town, Wujin District, Changzhou City. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| * * * * * *
| Megvii Technology, 3rd Floor, Block A, Rongke Information Center, No. 2 South Road, Haidian District, Beijing, China; and Floor 3rd Unit A Raycom Infotech Park, No 2 Kexueyuan, Beijing, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Ministry of Public Security's Institute of Forensic Science of China, a.k.a., the following two aliases: —Forensic Identification Center of the Ministry of Public Security of the People's Republic of China; and —Material Identification Center of the Ministry of Public Security of the People's Republic of China. No. 18 West Dongbeiwang Road, Haidian District, China; and Ministry of Public Security, Xicheng District, Beijing, China; and No. 17 Mulidi South Lane, Xicheng District, Beijing, China; and Tumushuke Municipal Public Security Bureau, Qian Hai West Road, Tumushuke City, Xinjiang Uyghur Autonomous Region. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20. 85 FR [INSERT FR PAGE NUMBER] 7/22/20.
| * * * * * *
| Nanchang O-Film Tech., a.k.a., the following one alias: —Nanchang Oufeiguang Technology. Huangjiahu Road, Nanchang Economic and Technological Development Zone, Jiangxi Province; and Oufeiguang Technology Park, Aviation City Avenue, Nanchang High-tech Industrial Development Zone, Jiangxi Province; and No. 1588, Huangjiahu West Road, Nanchang Economic and Technological Development Zone, Jiangxi Province; and No. 369 Longtan Road, Nanchang Economic and Technological Development Zone, Jiangxi Province; and No. 18 Fuying Road, Nanchang Economic and Technological Development Zone, Jiangxi Province; and No. 68/69, Xianghe First Road, Ganjiang New District, Nanchang City, Jiangxi Province; and No. 698 Tianxiang Avenue, Nanchang High-tech Industrial Development Zone, Jiangxi Province; and No. 189, Export Processing Zone, Huoju Road, Nanchang High-tech Industrial Development Zone, Jiangxi Province. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| Nanjing FiberHome Starrysky Communication Development Co., a.k.a., the following two aliases: —Nanjing Fenghuo Xingkong Communication Development Co.; and —Fiberhome StarrySky Co., Ltd. 88 Yunlongshan Road, Jianye District, Nanjing China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20.
| Nanjing Synergy Textiles Co. Ltd., a.k.a., the following two aliases: —Nanjing Xinyi Cotton Textile Printing and Dyeing; and —Nanjing Xinyi Cotton Textile. No. 2 Shengan Avenue, Binjiang Economic Development Zone, Jiangning, Nanjing. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| * * * * * *
| NetPosa, a.k.a., the following three aliases: —Dongfang Netpower Technology Co.; —Dongfang Wangli Technology; and —NetPosa Technologies Ltd., Room 408, 4th Floor, Shining Xueyuan Road, Haidian District, Beijing, China; and Room 3603, Wanda Plaza, No. 555 Xuanwuhu Road, Economic and Technological Development Zone, Urumqi, China; and 26F, BLK C, Wangjing SOHO Tower 2, #1 Futong Ave, Chaoyang District, Beijing, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20.
| * * * * * *
| SenseNets, a.k.a., the following six aliases: —Deep Net Vision; —Deep Network Vision; —Sensenets Corporation; —Shenzhen Net Vision; —Shenzhen Shenwang Vision Technology Co., Ltd.; and —Shenzhen Vision. 8th Floor, East Tower, Skyworth Semiconductor Design Building, No. 18 Gaoxin South 4th Road, Yuehai Street, Nanshan District, Shenzhen, China; and 16F, China Merchants Development Center, No. 1063, Nanhai Avenue, Nanshan District, Shenzhen, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20.
| * * * * * *
| Shihezi Municipality Public Security Bureau, 209 N Fourth Rd., Shihezi City, XUAR 832000, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19.
| * * * * * *
| Tacheng Prefecture Public Security Bureau, Tuanjie Rd. Tacheng City, XUAR 834700, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Tanyuan Technology Co. Ltd., a.k.a., the following five aliases: —Carbon Yuan Technology; —Changzhou Carbon Yuan Technology Development; —Carbon Element Technology —Jiangsu Carbon Element Technology; and —Tanyuan Technology Development. No. 7 Lanxiang Road, Wujin Economic Development Zone, Jiangsu. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| * * * * * *
| Tumushuke Municipal Public Security Bureau, a.k.a., the following one alias: —Tumxuk Municipal Public Security Bureau. Qian Hai West Rd., Tumushuke City, XUAR S21866, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Turfan Municipality Public Security Bureau, a.k.a., the following one alias: —Turpan Municipality Public Security Bureau. 2447 Gaochang N Rd., Turfan City, Gaocheng District, XUAR 838000, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Urumqi Municipal Public Security Bureau, 339 Hebei East Rd., Urumqi XUAR, China and New China North Road, XUAR, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Wujiaqu Municipality Public Security Bureau, 676 Changan W Rd., Wujiaqu City, XUAR 831300, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Xiamen Meiya Pico Information Co. Ltd., No. 131, Unit 1, Building 1, Tuman Road Construction Company, Kashi City, Xinjiang; and Room 1504, Block B, Sunshine 100 Commercial Complex 333, Qiantangjiang Road, Urumqi, Xinjiang, China; and Meiya Pico Building,12,Guanri Road,2nd Phase of Xiamen Software Park, Xiamen, Fujian, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Xinjiang Police College, Xinshi District, Changsha Road, No. 1108, Urumqi, Xinjiang, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Xinjiang Production and Construction Corps (XPCC) Public Security Bureau, 106 Guangming Rd., Urumqi, Tianshan, XUAR, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Xinjiang Silk Road BGI, a.k.a., the following one alias: —Xinjiang Silk Road Huada Gene Technology. Xinjiang Urumqi High-tech Industrial Development Zone (New Urban District) No.258 Gaoxin Street Cyberport Building 2015-891. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR [INSERT FR PAGE NUMBER] 7/22/20.
| Xinjiang Uyghur Autonomous Region (XUAR) People's Government Public Security Bureau, 28 Qiantangjiang Rd., Shayibake District, Urumqi, XUAR, 830006, China. | For all items subject to the EAR (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| Yili Kazakh Autonomous Prefecture Public Security Bureau, a.k.a., the following one alias: —Ili Kazakh Autonomous Prefecture Public Security Bureau. Sidalin W Rd., Yining City, XUAR 835000, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Yitu Technologies, 23F, Shanghai Arch Tower I, 523 Loushanguan Rd, Changning District, Shanghai, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
| Yixin Science and Technology Co. Ltd., a.k.a., the following four aliases: —Yixin Technology; —Yuxin Technology; —Yuxin Science and Technology; and —Ecguard. 216 Qiantangjiang Rd., Urumqi, Xinjiang, China; and 17th Floor Tong Guang Building, No 12 Beijing Agricultural Exhibition South, Chaoyang District, Beijing, China; and 17F Tongguang Mansion # 12 Nongzhannanli, Chaoyang, Beijing, China; and 216 Qiantangjiang Road, Urumqi, Xinjiang. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR [INSERT FR PAGE NUMBER] 7/22/20.
| * * * * * *
* * * * * * *

Richard E. Ashooh,
Assistant Secretary for Export Administration.

[FR Doc. 2020-15827 Filed 7-20-20; 11:15 am]

BILLING CODE 3510-33-P